OFFICE OF THE UNITED STATES TRADE REPRESENTATIVE

Technical Corrections to the Harmonized Tariff Schedule of the United States

AGENCY: Office of the United States Trade Representative.

ACTION: Notice.

SUMMARY: Pursuant to authority delegated to the United States Trade Representative (“USTR”) in Presidential Proclamation 6969 of January 27, 1997 (62 FR 4415), USTR is making technical corrections to subchapter III of chapter 99 of the Harmonized Tariff Schedule of the United States (“HTS”) as set forth in the annex to this notice. These modifications correct several inadvertent errors and omissions in subheadings 9903.72.30 through 9903.74.24 of the HTS so that the intended tariff treatment is provided. In addition, USTR is modifying other portions of the HTS so as to reflect the correct treatment of goods described in general note 10(c) of the HTS and subheading 2933.59.95 of the HTS.

EFFECTIVE DATE: The corrections made in this notice are effective with respect to articles entered, or withdrawn from warehouse for consumption, on or after the dates set forth in the annex to this notice.

FOR FURTHER INFORMATION CONTACT: Office of Industry, Office of the United States Trade Representative, 600 17th Street, NW., Room 501, Washington, DC 20508. Telephone (202) 395-5656.

SUPPLEMENTARY INFORMATION: On March 5, 2002, pursuant to section 203 of the Trade Act of 1974, as amended (the “Trade Act”) (19 U.S.C. 2253), the President issued Proclamation 7529 (67 FR 10553), which imposed tariffs and a tariff-rate quota on (a) certain flat steel, consisting of: slabs, plate, hot-rolled steel, cold-rolled steel, and coated steel; (b) hot-rolled bar; (c) cold-finished bar; (d) rebar; (e) certain tubular products; (f) carbon and alloy fittings; (g) stainless steel bar; (h) stainless steel rod; (i) tin mill products; and (j) stainless steel wire, as provided for in subheadings 9903.72.30 through 9903.74.24 of the Harmonized Tariff Schedule of the United States (“HTS”) (“safeguard measures”) for a period of three years plus 1 day. Effective with respect to goods entered, or withdrawn from warehouse for consumption, on or after 12:01 a.m., e.s.t., on March 20, 2002, Proclamation 7529 modified subchapter III of chapter 99 of the HTS so as to provide for such increased duties and a tariff-rate quota. Proclamation 7529 also delegated to the USTR the authority to consider requests for exclusion of a particular product submitted in accordance with the procedures set out in 66 FR 54321, 54322-54323 (October 26, 2001) and, upon publication in the Federal Register of a notice of his finding that a particular product should be excluded, to modify the HTS provision created by the annex to that proclamation to exclude such particular product from the pertinent safeguard measure. On April 5, 2002, USTR published a notice in the Federal Register excluding particular products from the safeguard measures, and modified the HTS accordingly. 67 FR 16484. On July 3, the President issued Proclamation 7576, which extended the period for granting exclusions until August 31, 2002. On July 12, 2002, August 30, 2002, and March 31, 2003, USTR published notices in the Federal Register excluding additional products from the safeguard measures, and modified the HTS accordingly. 67 FR 46221, 67 FR 56182, and 68 FR 15494.

On March 19, 2002, June 4, 2002, July 12, 2002, August 30, 2002, November 14, 2002, February 11, 2003, March 31, 2003 and June 9, 2003, USTR published Federal Register notices (67 FR 12635, 67 FR 38541, 67 FR 46221, 67 FR 56182, 67 FR 69065, 68 FR 6982, 68 FR 15494, 68 FR 34462 respectively) making technical corrections to subchapter III of chapter 99 of the HTS to remedy several technical errors introduced in the annex to Proclamation 7529. These corrections ensured that the intended tariff treatment was provided. Since the publication of these Federal Register notices, additional technical errors and omissions in subchapter III of chapter 99 have come to the attention of USTR. Annex I to this notice makes technical corrections to the HTS to remedy these errors and omissions. In particular, the annex to this notice corrects errors in the descriptions of the physical dimensions, chemical composition, or mechanical characteristics of certain products excluded from the application of the safeguard measures.

In addition, it has come to the attention of USTR that there are technical errors and omissions in other chapters of the HTS due to prior proclamations unrelated to Proclamation 7529. Annex II to this notice makes two corrections in the HTS so as to ensure that the intended tariff treatment is accorded. Such corrections are being made pursuant to authority delegated to the USTR in Presidential Proclamation 6969 of January 27, 1997 (62 FR 4415). These modifications correct an inadvertent error in a provision of Presidential Proclamation 6763 of December 23, 1994 (60 FR 1007, 1196) and an inadvertent omission of a conforming change by Presidential Proclamation 7616 of October 31, 2002 (67 FR 67283, 67290) following enactment of section 3106 of the Trade Act of 2002. These changes would appear to have no impact on duty treatment.

Proclamation 6969 authorized the USTR to exercise the authority provided to the President under section 604 of the Trade Act of 1974 (19 U.S.C. 2483) to embody rectifications, technical or conforming changes, or similar modifications in the HTS. Under authority vested in the USTR by Proclamation 6969, the rectifications, technical and conforming changes, and similar modifications set forth in the annex to this notice shall be embodied in the HTS with respect to goods entered, or withdrawn from warehouse for consumption, on or after the dates set forth in the Annex to this notice.

Robert B. Zoellick,
United States Trade Representative.

Annex I

Section I. Effective March 31, 2003 the notice published at 68 FR 15494-15544 is modified by deleting part 1(C) of section I from the annex.

Section II. Unless otherwise specified in a subdivision herein, the following modifications of subchapter III of chapter 99 of the Harmonized Tariff Schedule of the United States shall be effective with respect to goods entered, or withdrawn from warehouse for consumption, on or after 12:01 a.m. EST, on or after the effective date of the individual HTS provision or text being corrected.

1. U.S. note 11 to such subchapter III is hereby modified as follows:

(A) In subdivision (b)(xvi)(A), “1600 mm” is deleted and “1625 mm” is inserted in lieu thereof; “manganese of 2.0” is deleted and “manganese of 2.1” is inserted in lieu thereof; and “minimum” is inserted immediately before “elongation”;

(B) In subdivision (b)(xvi)(B), “1600 mm” is deleted and “1625 mm” is inserted in lieu thereof; “minimum yield strength of 793 MPa” is deleted and “yield strength of 700 to 875 MPa” is inserted in lieu thereof; “minimum tensile strength of 931 MPa” is deleted and “tensile strength of 790 to 1100 MPa” is inserted in lieu thereof; and “minimum” is inserted immediately before “elongation”;

(C) In subdivision (b)(lii)(A), “0.274 mm” is deleted and “0.273 mm” is inserted in lieu thereof;

(D) In subdivision (c)(xxix)(A), “A624-98” is deleted and “A625-98” is inserted in lieu thereof, and “black plate” is inserted after “reduced”;

(E) In subdivision (c)(xxix)(B), “A624-98” is deleted and “A625-98” is inserted in lieu thereof, and “black plate” is inserted after “reduced”;

(F) In subdivision (c)(xxxix), “during the 12-month period beginning on July 3, 2002, or July 3, 2003, or during the period July 3, 2004, through March 20, 2005, inclusive;” is deleted and “during the 12-month period beginning on July 12, 2002, or July 12, 2003, or during the period July 12, 2004, through March 20, 2005, inclusive;” is inserted in lieu thereof;

(G) In subdivision (c)(l)(B), “phosphorus 0.012 percent” is deleted and “phosphorus 0.12 percent” is inserted in lieu thereof;

(H) In subdivision (c)(lxx)(B), “carbon 0.13” is deleted and “carbon 0.125 to 0.18” is inserted in lieu thereof; “silicon 0.20” is deleted and “silicon 0.3 to 0.7” is inserted in lieu thereof; “manganese 1.5” is deleted and “manganese 1.3 to 1.75” is inserted in lieu thereof; “niobium (columbium) 0.015” is deleted and “niobium (columbium) 0.005 to 0.025” is inserted in lieu thereof; and “aluminum 0.04” is deleted and “aluminum 0.01 to 0.075” is inserted in lieu thereof;

(I) In subdivision (c)(lxx)(E), “carbon 0.14” is deleted and “carbon 0.1 to 0.155” is inserted in lieu thereof; “silicon 0.20” is deleted and “silicon 0.12 to 0.35” is inserted in lieu thereof; “manganese 1.7” is deleted and “manganese 1.45 to 2.0” is inserted in lieu thereof; “niobium (columbium) 0.015” is deleted and “niobium (columbium) 0.005 to 0.025” is inserted in lieu thereof; and “aluminum 0.04” is deleted and “aluminum 0.01 to 0.075” is inserted in lieu thereof;

(J) In subdivision (c)(lxxii)(A), “carbon 0.11” is deleted and “carbon 0.08 to 0.14” is inserted in lieu thereof; “silicon 0.20” is deleted and “silicon 0.05 to 0.45” is inserted in lieu thereof; “manganese 0.70” is deleted and “manganese 0.5 to 1.0” is inserted in lieu thereof; and “aluminum 0.04” is deleted and “aluminum 0.015 to 0.075” is inserted in lieu thereof;

(K) In subdivision (c)(lxxii)(B), “carbon 0.10” is deleted and “carbon 0.08 to 0.125” is inserted in lieu thereof; “silicon 0.40” is deleted and “silicon 0.3 to 0.55” is inserted in lieu thereof; “manganese 1.50” is deleted and “manganese 1.35 to 1.65” is inserted in lieu thereof; and “aluminum 0.04” is deleted and “aluminum 0.015 to 0.075” is inserted in lieu thereof;

(L) In subdivision (c)(lxxii)(C), “carbon 0.13” is deleted and “carbon 0.1 to 0.155” is inserted in lieu thereof; “silicon 0.20” is deleted and “silicon 0.12 to 0.35” is inserted in lieu thereof; “manganese 1.50” is deleted and “manganese 1.35 to 1.65” is inserted in lieu thereof; “niobium (columbium) 0.015” is deleted and “niobium (columbium) 0.005 to 0.025” is inserted in lieu thereof; and “aluminum 0.04” is deleted and “aluminum 0.01 to 0.075” is inserted in lieu thereof;

(M) In subdivision (c)(lxxii)(D), “carbon 0.15” is deleted and “carbon 0.13 to 0.18” is inserted in lieu thereof; “silicon 0.20” is deleted and “silicon 0.05 to 0.60” is inserted in lieu thereof; “manganese 1.50” is deleted and “manganese 1.3 to 1.75” is inserted in lieu thereof; “niobium (columbium) 0.015” is deleted and “niobium (columbium) 0.005 to 0.025” is inserted in lieu thereof; and “aluminum 0.04” is deleted and “aluminum 0.01 to 0.075” is inserted in lieu thereof;

(N) In subdivision (c)(lxxii)(E), “carbon 0.11” is deleted and “carbon 0.09 to 0.135” is inserted in lieu thereof; “silicon 0.20” is deleted and “silicon 0.12 to 0.35” is inserted in lieu thereof; “manganese 1.60” is deleted and “manganese 1.3 to 1.85” is inserted in lieu thereof; and “aluminum 0.04” is deleted and “aluminum 0.01 to 0.075” is inserted in lieu thereof;

(O) In subdivision (c)(lxxii)(F), “carbon 0.17” is deleted and “carbon 0.15 to 0.2” is inserted in lieu thereof; “silicon 0.50” is deleted and “silicon 0.3 to 0.7” is inserted in lieu thereof; “manganese 1.60 percent” is deleted and “manganese 1.4 to 1.9” is inserted in lieu thereof; “niobium (columbium) 0.015” is deleted and “niobium (columbium) 0.005 to 0.025” is inserted in lieu thereof; and “aluminum 0.04” is deleted and “aluminum 0.01 to 0.075” is inserted in lieu thereof;

(P) In subdivision (c)(lxxii)(G), “carbon 0.13” is deleted and “carbon 0.1 to 0.16” is inserted in lieu thereof; “silicon 0.50” is deleted and “silicon 0.3 to 0.75” is inserted in lieu thereof; and “manganese 1.20” is deleted and “manganese 1.0 to 1.45” is inserted in lieu thereof;

(Q) In subdivision (c)(lxxii)(H), “carbon 0.17” is deleted and “carbon 0.15 to 0.2” is inserted in lieu thereof; “silicon 0.50” is deleted and “silicon 0.3 to 0.7” is inserted in lieu thereof; “manganese 1.60” is deleted and “manganese 1.4 to 1.9” is inserted in lieu thereof; “niobium (columbium) 0.015” is deleted and “niobium (columbium) 0.005 to 0.025” is inserted in lieu thereof; and “aluminum 0.04” is deleted and “aluminum 0.01 to 0.075” is inserted in lieu thereof;

(R) In subdivision (c)(cxxxvi), “bars” is deleted and “steel” is inserted in lieu thereof;

(S) Effective with respect to goods entered, or withdrawn from warehouse for consumption, on or after September 1, 2003, in subdivision (c) (clxvii), “1830 mm” is deleted and “1855 mm” is inserted in lieu thereof;

(T) In subdivision (c)(cxcix), “A624-00” is deleted and “A625-98” is inserted in lieu thereof;

(U) In subdivision (c)(ccxci), “1830 mm” is deleted and “1855 mm” is inserted in lieu thereof;

(V) In subdivision (c)(ccclxxx), “150.38 mm” is deleted and “147.84 mm” is inserted in lieu thereof;

(W) In subdivision (c)(cd), “not” is inserted after “stainless steel bars';

(X) In subdivision (c)(cdv), “6,071 mm to 6,135 mm in length” is deleted and “6,019 mm to 6,135 mm in length” is inserted in lieu thereof; “thickness of 0.02 mm to 0.05 mm” is deleted and “thickness of 0.02 mm to 0.09 mm” is inserted in lieu thereof; “elongation 45 to 50 percent;” is deleted; “hardness 58 to 72 Rockwell B” is deleted and “hardness 58 to 80 Rockwell B” is inserted in lieu thereof;

(Y) In subdivision (c)(cdxxix), “ wall thickness of 0.84 mm to 0.92 mm; in any of the following six lengths: (1) 936 mm to 937 mm; (2) 1,033 mm to 1,034 mm; (3) 1,150 mm to 1,151 mm; (4) 3,929 mm to 3,930 mm; (5) 3,950 mm to 3,951 mm; and (6) 4,205 mm to 4,206 mm” is deleted and “with (A) wall thickness of 0.84 mm to 0.94 mm in any of the following four lengths: (1) 936 mm to 937 mm; (2) 1,033 mm to 1,034 mm; (3) 1,115 mm to 1,116 mm; (4) 3,929 mm to 3,930 mm, or, (B) wall thickness of 1.10 mm to 1.30 mm and length of 3,982 mm to 3983 mm” is inserted in lieu thereof; “carbon 0.045 to 0.094” is deleted and “carbon not over 0.1” is inserted in lieu thereof; “ manganese 0.30 to 0.554” is deleted and “manganese not over 0.8” is inserted in lieu thereof; “sulfur not over 0.20” is deleted and “sulfur not over 0.025” is inserted in lieu thereof; “phosphorus not over 0.20” is deleted and “phosphorus not over 0.025” is inserted in lieu thereof; “ silicon not over 0.30” is deleted and “silicon not over 0.50” is inserted in lieu thereof; “aluminum 0.25 to 0.74” is deleted and “aluminum not less than 0.015” is inserted in lieu thereof; “niobium 0.015 to 0.030” is deleted and “niobium not over 0.090” is inserted in lieu thereof; and “carbon equivalent content of 0.120 to 0.185;” is deleted;

(Z) In subdivision (c)(cdxxx), “0.84 mm to 0.92 mm” is deleted and “0.84 mm to 0.94 mm” is inserted in lieu thereof; “carbon 0.045 to 0.094” is deleted and “carbon not over 0.1” is inserted in lieu thereof; “manganese 0.30 to 0.554” is deleted and “manganese not over 0.8” is inserted in lieu thereof; “sulfur not over 0.20” is deleted and “sulfur not over 0.025” is inserted in lieu thereof; “phosphorus not over 0.20” is deleted and “phosphorus not over 0.025” is inserted in lieu thereof; “silicon not over 0.30” is deleted and “silicon not over 0.50” is inserted in lieu thereof; “aluminum 0.25 to 0.74” is deleted and “aluminum not less than 0.015” is inserted in lieu thereof; “niobium 0.015 to 0.030” is deleted and “niobium not over 0.090” is inserted in lieu thereof; and “carbon equivalent content of 0.120 to 0.185;” is deleted.

2. The following subheadings of such subchapter III are each modified as follows:

(A) In subheading “9903.72.85” , “ note 11(b)(viii)” is deleted and “notes 11(b)(viii)(A) through 11(b)(viii)(N) and 11(b)(viii)(P) through 11(b)(viii)(T)” is inserted in lieu thereof;

(B) Subheading “9903.76.72” is deleted;

(C) In subheading 9903.79.73, “2.700” is deleted and “2,700” is inserted in lieu thereof;

3. The following new subheadings are inserted in numerical sequence in subchapter III of chapter 99 of the HTS, with the new material being inserted in the columns entitled “Heading/Subheading”, “Article Description”, “Rate of Duty 1 General”, “Rates of Duty 1 Special” and “Rates of Duty 2”, respectively:

| [Goods...:]
“9903.78.34 | Enumerated in U.S. note 11(c)(li) to this subchapter | No change | No change | No change.
9903.78.35 | Enumerated in U.S. note 11(c)(cxxxv) to this subchapter | No change | No change | No change.
9903.78.36 | Enumerated in U.S. note 11(c)(cxxxvi) to this subchapter | No change | No change | No change.
9903.78.37 | Enumerated in U.S. note 11(c)(cclvii) to this subchapter | No change | No change | No change.
9903.78.38 | Enumerated in U.S. note 11(c)(cccxxxvii) to this subchapter | No change | No change | No change.
9903.79.81 | Enumerated in U.S. note 11(b)(viii)(O) to this subchapter | No change | No change | No change.
Conforming Changes:
Subheading 9903.72.57 is modified by deleting “9903.78.33” and by inserting in lieu thereof “9903.78.38”
Subheading 9903.73.18 is modified by deleting “9903.79.80” and by inserting in lieu thereof “9903.79.81”,

Annex II

Technical Corrections to the Harmonized Tariff Schedule of the United States

Effective with respect to goods entered, or withdrawn from warehouse for consumption, on or after the dates indicated in each item below, the Harmonized Tariff Schedule of the United States (HTS) is hereby modified as followed:

1. Effective with respect to goods entered, or withdrawn from warehouse for consumption, on or after August 6, 2002, general note10(c) is modified by deleting “1604.14.20” and by inserting in lieu thereof “1604.14.22'.

2. Effective with respect to goods entered, or withdrawn from warehouse for consumption, on or after January 1, 1995, subheading 2933.59.95 is modified by inserting the symbol “L,” in alphabetical sequence in the Rates of Duty 1-Special subcolumn in the parenthetical expression following the “Free” rate of duty.

[FR Doc. 03-30658 Filed 12-10-03; 8:45 am]

BILLING CODE 3190-W3-P